DEPARTMENT OF COMMERCE

International Trade Administration

Joint Millennium Challenge Corporation and Department of Commerce Energy Sector Business Development Mission to Tanzania, May 31-June 2, 2015

AGENCY: International Trade Administration, Department of Commerce.

ACTION: Notice.

SUMMARY: The United States Millennium Challenge Corporation (MCC), and the Department of Commerce's (DOC) International Trade Administration (ITA) are organizing the Joint Millennium Challenge Corporation and Department of Commerce Energy Sector Business Development Mission to Tanzania, to be held May 31- June 2, 2015, in Dar es Salaam, Tanzania. This mission is a component of the Administration's Doing Business in Africa (DBIA) campaign and was proposed by MCC during the Africa Leaders' Summit in Washington, DC on August 5, 2014.

SCHEDULE:

Saturday, May 30 | Dar Es Salaam, Tanzania | Mission Participants arrive.
Sunday, May 31 | Dar Es Salaam, Tanzania | U.S. Industry Delegation Welcome Reception and Program Orientation Tanzania Energy Sector Overview.
Monday, June 1 | Dar Es Salaam, Tanzania | Official Welcome, Industry Briefings/Roundtable Discussions.
|  | Luncheon.
|  | Government Meetings.
|  | Networking Dinner or Reception.
Tuesday, June 2 | Dar Es Salaam, Tanzania | Government Meetings.
|  | Site Visit.
|  | Reception.
|  | Mission Officially Ends.

Target Sectors: The mission will focus on U.S. firms in the energy sector, including oil, gas, and renewables that can help Tanzania and neighboring countries develop and manage energy resources and systems and build out their power generation, transmission, and distribution systems. Mission participants will range from fully integrated energy solutions companies to equipment, technology and ancillary service providers. In addition, organizations such as project developers and those seeking to supply complementary services are eligible for participation.

Web site: Mission recruitment will be conducted in an open and public manner, including publication in the Federal Register, posting on MCC's Web site (http://www.mcc.gov/investmentmission), posting on ITA's business trade mission calendar(http://export.gov/trademissions) and other Internet Web sites, press releases to general and trade media, direct mail, broadcast fax, notices by industry trade associations and other multiplier groups, and publicity at industry meetings, symposia, conferences, and trade shows

Fees: After an applicant has been selected to participate on the mission, a payment to the Department of Commerce in the form of a participation fee is required. Upon notification of acceptance to participate, those selected have 5 business days to submit payment or the acceptance may be revoked.

The fee to participate on the mission is $3,000 for the first representative and $1,000 for one additional representative. For small or medium-sized enterprises (SME) ¹ the fee to participate on the mission is $2,590 for the first representative and $1,000 for one additional representative. In the event that the mission is cancelled, no personal expenses paid in anticipation of a trade mission will be reimbursed. However, participation fees for a cancelled trade mission will be reimbursed to the extent they have not already been expended in anticipation of the mission.

¹ An SME is defined as a firm with 500 or fewer employees or that otherwise qualifies as a small business under SBA regulations (see http://www.sba.gov/services/contractingopportunities/sizestandardstopics/index.html). Parent companies, affiliates, and subsidiaries will be considered when determining business size. The dual pricing reflects the Commercial Service's user fee schedule that became effective May 1, 2008 (see http://www.export.gov/newsletter/march2008/initiatives.html for additional information).

Exclusions: The mission fee does not include any personal travel expenses such as air transport, lodging, most meals, local ground transportation (except for transportation to and from meetings), unless otherwise noted. Participants will, however, be able to take advantage of U.S. Government rates for hotel rooms.

Business or entry visas may be required to participate on the mission. Applying for and obtaining such visas will be the responsibility of the mission participant. Government fees and processing expenses to obtain such visas are not included in the participation fee. However, the Department of Commerce will provide instructions to each participant on the procedures required to obtain necessary business visas.

Application: https://emenuapps.ita.doc.gov/ePublic/TM/5R1L.

Application Deadline: The Department of Commerce (with input from MCC) will evaluate applications and inform applicants of selection decisions on a rolling basis until the maximum number of participants has been selected.

The application deadline is Friday, April 17, 2015. Applications received after the April 17th deadline, will be considered only if space and scheduling constraints permit. The Department of Commerce (with input from the Millennium Challenge Corporation) will evaluate all applications and inform applicants of selection decisions by April 24, 2015.

Conditions for Participation: An applicant must submit a completed mission application, together with supplemental application materials, including adequate information on its products and/or services, primary market objectives, and goals for participation. Applicants must satisfy all of the conditions of participation in order to be eligible for consideration. Applications will be evaluated on the applicant's ability to best satisfy the participation criteria below. If the Department of Commerce receives an incomplete application, the Department may reject the application, request additional information, or take the lack of information into account when evaluating the applications.

Each applicant must certify that the products or services it seeks to export through the mission are either produced in the United States, or, if not, marketed under the name of a U.S. firm and have at least 51 percent U.S. content of the value of the finished product or service.

Each applicant must also certify that:

• The export of its goods, software, technology, and services would be in compliance with U.S. export control laws and regulations, including those administered by the Department of Commerce's Bureau of Industry and Security;

• It has identified any matter pending before any bureau or office of the Department of Commerce;

• It has identified any pending litigation (including any administrative proceedings) to which it is a party that involves the Department of Commerce;

• It and its affiliates (1) have not and will not engage in the bribery of foreign officials in connection with its involvement in this Mission, and (2) maintain and enforce a policy that prohibits the bribery of foreign officials; and

• It meets the minimum requirements as stated in the Recruitment Announcement.

FOR FURTHER INFORMATION CONTACT: Millennium Challenge Corporation, 875 Fifteenth Street NW., Washington, DC 20005-2221,Tel: 202-521-7234, Email: InvestmentMission@mcc.gov, Malcolm Burke, Senior Policy Advisor.

Frank Spector,
Trade Programs & Strategic Partnership Spector.

[FR Doc. 2015-09544 Filed 4-23-15; 8:45 am]

BILLING CODE 3510-DR-P